DEPARTMENT OF HEALTH AND HUMAN SERVICES

Centers for Disease Control and Prevention

[60Day-23-23FN; Docket No. CDC-2023-0044]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of Government information, invites the general public and other Federal agencies the opportunity to comment on a proposed information collection, as required by the Paperwork Reduction Act of 1995. This notice invites comment on a proposed information collection project titled, Menthol-Flavored Tobacco Products Policy Evaluation, which aims to collect data on menthol-flavored tobacco product use, any tobacco use, quit rates, and product switching behaviors among adults 18 years of age and older.

DATES: CDC must receive written comments on or before August 8, 2023.

ADDRESSES: You may submit comments, identified by Docket No. CDC-2023-0044 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Menthol-Flavored Tobacco Products Policy Evaluation—New—National Center for Chronic Disease Prevention and Health Promotion (NCCDPHP), Centers for Disease Control and Prevention (CDC).

Background and Brief Description

The Centers for Disease Control and Prevention (CDC) is submitting this new information collection request (ICR) for an evaluation of local policies restricting the sale of menthol and other flavored tobacco products on outcomes such as menthol-flavored tobacco product use, any tobacco use, quit rates, and product switching behaviors. The evaluation will also study the impact community education efforts associated with the flavored tobacco product sales restriction policies have on individuals' awareness of the policies and perceptions about the harms of tobacco use. This evaluation seeks to explore the effects of the policies on racial and ethnic groups (American Indian or Alaska Native, Asian, Black or African American, Native Hawaiian or Other Pacific Islander, and Hispanic or Latino populations), and lesbian, gay, bisexual, transgender, queer, and/or questioning (LGBTQ+) communities specifically, as these populations are known to use menthol-flavored tobacco products at a higher prevalence than other populations and may therefore be most affected by policies addressing menthol-flavored tobacco use.

Understanding how the aforementioned policies impact menthol-flavored tobacco product use may help to inform public health activities and decisions regarding tobacco control. Although some research on local tobacco policies indicates they are effective at limiting the availability of policy-restricted products, there is a lack of information on the policies' potential impact on tobacco use behaviors (e.g., product switching behavior, online purchasing). There have been no other evaluation data collection efforts conducted on this topic to date, nor does the information to be collected exist in any existing centralized data source. Each data collection tool submitted through this package has a distinct purpose with no overlap across other tools or data collection efforts.

OMB approval is requested for three years. The total annualized burden is 3,047 hours. There are no costs to respondents other than their time to participate.

Estimated Annualized Burden Hours
Type of respondent | Form name | Number of respondents | Number of responses per respondent | Average burden per response (in hr) | Total burden (in hr)
General population | Survey Screener Questionnaire | 9,875 | 1 | 2/60 | 329
Individuals in racial and ethnic groups | Survey Screener Questionnaire | 1,500 | 1 | 2/60 | 50
LGBTQ+ individuals | Survey Screener Questionnaire | 1,125 | 1 | 2/60 | 38
General population | Community Web-Panel Survey | 4,050 | 1 | 30/60 | 2,025
Individuals in racial and ethnic groups | Community Web-Panel Survey | 600 | 1 | 30/60 | 300
LGBTQ+ individuals | Community Web-Panel Survey | 450 | 1 | 30/60 | 225
General population | Focus Group Screener Questionnaire | 34 | 1 | 3/60 | 2
Individuals in racial and ethnic groups | Focus Group Screener Questionnaire | 33 | 1 | 3/60 | 2
LGBTQ+ individuals | Focus Group Screener Questionnaire | 33 | 1 | 3/60 | 2
General population | Community Focus Group | 25 | 1 | 1 | 25
Individuals in racial and ethnic groups | Community Focus Group | 25 | 1 | 1 | 25
LGBTQ+ individuals | Community Focus Group | 25 | 1 | 1 | 25
Total |  |  |  |  | 3,047

Jeffrey M. Zirger,
Lead, Information Collection Review Office, Office of Public Health Ethics and Regulations, Office of Science, Centers for Disease Control and Prevention.

[FR Doc. 2023-12358 Filed 6-8-23; 8:45 am]

BILLING CODE 4163-18-P